ENVIRONMENTAL PROTECTION AGENCY

40 CFR Parts 60 and 63

[EPA-HQ-OAR-2010-0682; FRL-9940-66-OAR]

RIN 2016-AS83

National Emission Standards for Hazardous Air Pollutant Emissions: Petroleum Refinery Sector Amendments

AGENCY: Environmental Protection Agency (EPA).

ACTION: Proposed rule.

SUMMARY: This action proposes amendments to the National Emission Standards for Hazardous Air Pollutants (NESHAP) Refinery MACT 1 and Refinery MACT 2 regulations and the New Source Performance Standards (NSPS) for petroleum refineries, which were published on December 1, 2015. In that action, as a result of a risk and technology review, the Environmental Protection Agency (EPA) finalized amendments to Refinery MACT 1 and Refinery MACT 2. In this action, the EPA is proposing to amend the compliance date in Refinery MACT 1 for maintenance vent standards that apply during periods of startup, shutdown, maintenance or inspection for sources constructed or reconstructed on or before June 30, 2014. In this action, the EPA is also proposing to revise the compliance dates in Refinery MACT 2 for the standards that apply during startup, shutdown, or hot standby for fluid catalytic cracking units (FCCU) and startup and shutdown for sulfur recovery units (SRU) constructed or reconstructed on or before June 30, 2014. These proposed revisions do not affect requirements that apply during normal operations. Finally, the EPA is proposing technical corrections and clarifications to the NESHAP and the NSPS for petroleum refineries. This action will have an insignificant effect on emissions reductions and costs.

DATES: Comments must be received on or before March 25, 2016.

ADDRESSES: Submit your comments, identified by Docket ID No. EPA-HQ-OAR-2010-0682, at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA is seeking comment only on the issues specifically identified in this notice. The EPA will not respond to any comments addressing other aspects of the final rules or any other related rulemakings. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

Instructions. All submissions must include the agency name and Docket ID No. EPA-HQ-OAR-2010-0682. The EPA's policy is that all comments received will be included in the public docket without change, and will be made available online at http://www.regulations.gov, including any personal information provided, unless the comment includes information claimed to be confidential business information (CBI) or other information whose disclosure is restricted by statute. Do not submit information that you consider to be CBI or otherwise protected through http://www.regulations.gov or email. Send or deliver information identified as CBI only to the following address: OAQPS Document Control Officer (C404-02), Office of Air Quality Planning and Standards, U.S. EPA, Research Triangle Park, North Carolina 27711, Attention Docket ID No. EPA-HQ-OAR-2010-0682. Clearly mark the part or all of the information that you claim to be CBI. For CBI information on a disk or CD-ROM that you mail to the EPA, mark the outside of the disk or CD-ROM as CBI and then identify electronically within the disk or CD-ROM the specific information you claim as CBI. In addition to one complete version of the comment that includes information claimed as CBI, you must submit a copy of the comment that does not contain the information claimed as CBI for inclusion in the public docket. Information so marked will not be disclosed except in accordance with procedures set forth in 40 CFR part 2.

The http://www.regulations.gov Web site is an “anonymous access” system, which means the EPA will not know your identity or contact information unless you provide it in the body of your comment. If you send an email comment directly to the EPA without going through http://www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should not include special characters or any form of encryption and be free of any defects or viruses.

Docket. All documents in the docket are listed in the regulations.gov index. Although listed in the index, some information is not publicly available, e.g., CBI or other information whose disclosure is restricted by statute. Certain other material, such as copyrighted material, is not placed on the Internet and will be publicly available only in hard copy. Publicly available docket materials are available either electronically in http://www.regulations.gov or in hard copy at the EPA Docket Center, EPA WJC West Building, Room 3334, 1301 Constitution Ave. NW., Washington, DC. The Public Reading Room is open from 8:30 a.m. to 4:30 p.m., Monday through Friday, excluding legal holidays. The telephone number for the Public Reading Room is (202) 566-1744, and the telephone number for the EPA Docket Center is (202) 566-1742. Visit the EPA Docket Center homepage at http://www.epa.gov/epahome/dockets.htm for additional information about the EPA's public docket.

Public hearing. A public hearing will be held if requested by February 16, 2016 to accept oral comments on this proposed action. The hearing will be held, if requested, on February 24, 2016 at the EPA's North Carolina Campus located at 109 T.W. Alexander Drive, Research Triangle Park, NC 27711. The hearing, if requested, will begin at 9:00 a.m. (local time) and will conclude at 1:00 p.m. (local time). To request a hearing, to register to speak at a hearing, or to inquire if a hearing will be held, please contact Ms. Virginia Hunt at (919) 541-0832 or by email at hunt.virginia@epa.gov. The last day to pre-register to speak at a hearing, if one is held, will be February 22, 2016. Additionally, requests to speak will be taken the day of the hearing at the hearing registration desk, although preferences on speaking times may not be able to be fulfilled. Please note that registration requests received before the hearing will be confirmed by the EPA via email.

Please note that any updates made to any aspect of the hearing, including whether or not a hearing will be held, will be posted online at http://www3.epa.gov/airtoxics/petref.html. We ask that you contact Ms. Virginia Hunt at (919) 541-0832 or by email at hunt.virginia@epa.gov or monitor our Web site to determine if a hearing will be held. The EPA does not intend to publish a notice in the Federal Register announcing any such updates. Please go to http://www3.epa.gov/airtoxics/petref.html for more information on the public hearing.

FOR FURTHER INFORMATION CONTACT: Ms. Brenda Shine, Sector Policies and Programs Division, Refining and Chemicals Group (E143-01), Office of Air Quality Planning and Standards, U.S. Environmental Protection Agency, Research Triangle Park, North Carolina, 27711; telephone number: (919) 541-3608; facsimile number: (919) 541-0246; and email address: shine.brenda@epa.gov. For information about the applicability of the NESHAP to a particular entity, contact Ms. Maria Malave, Office of Enforcement and Compliance Assurance, U.S. Environmental Protection Agency, EPA WJC South Building, 1200 Pennsylvania Ave. NW., Washington, DC 20460; telephone number: (202)564-7027; facsimile number: (202)564-0050; and email address: malave.maria@epa.gov.

SUPPLEMENTARY INFORMATION:

Preamble Acronyms and Abbreviations. We use multiple acronyms and terms in this preamble. While this list may not be exhaustive, to ease the reading of this preamble and for reference purposes, the EPA defines the following terms and acronyms here:

CAA Clean Air Act

CBI confidential business information

CFR Code of Federal Regulations

CEMS continuous emission monitoring system

COMS continuous opacity monitoring system

CPMS continuous parameter monitoring system

EPA Environmental Protection Agency

FCCU fluid catalytic cracking unit

HAP hazardous air pollutants

LEL lower explosive limit

NESHAP National Emissions Standards for Hazardous Air Pollutants

NTTAA National Technology Transfer and Advancement Act

OAQPS Office of Air Quality Planning and Standards

OECA Office of Enforcement and Compliance Assurance

OMB Office of Management and Budget

OSHA Occupational Safety and Health Administration

PRA Paperwork Reduction Act

PSM Process Safety Management

RFA Regulatory Flexibility Act

RMP Risk Management Plan

SRU sulfur recovery unit

TTN Technology Transfer Network

UMRA Unfunded Mandates Reform Act

Organization of this Document. The information in this preamble is organized as follows:

I. General Information

A. Does this action apply to me?

B. Where can I get a copy of this document and other related information?

II. Background Information

III. What actions are we proposing?

A. Compliance Dates for Standards Applicable to Maintenance Vents, FCCU and SRU during Startup and Shutdown and during Hot Standby for FCCU

B. Clarifications and Technical Corrections

C. Impacts

IV. Statutory and Executive Order Reviews

A. Executive Orders 12866: Regulatory Planning and Review and Executive Order 13563: Improving Regulation and Regulatory Review

B. Paperwork Reduction Act (PRA)

C. Regulatory Flexibility Act (RFA)

D. Unfunded Mandates Reform Act (UMRA)

E. Executive Order 13132: Federalism

F. Executive Order 13175: Consultation and Coordination With Indian Tribal Governments

G. Executive Order 13045: Protection of Children From Environmental Health Risks and Safety Risks

H. Executive Order 13211: Actions Concerning Regulations That Significantly Affect Energy Supply, Distribution or Use

I. National Technology Transfer and Advancement Act (NTTAA)

J. Executive Order 12898: Federal Actions to Address Environmental Justice in Minority Populations and Low-Income Populations

I. General Information

A. Does this action apply to me?

Regulated Entities. Categories and entities potentially regulated by this action are shown in Table 1 of this preamble.

Table 1—Industrial Source Categories Affected By This Final Action
NESHAP and source category | NAICS ᵃ Code
Petroleum Refining Industry | 324110
ᵃ North American Industry Classification System.

Table 1 of this preamble is not intended to be exhaustive, but rather to provide a guide for readers regarding entities likely to be affected by the final action for the source categories listed. To determine whether your facility is affected, you should examine the applicability criteria in the appropriate NESHAP or NSPS. If you have any questions regarding the applicability of any aspect of these NESHAP or NSPS, please contact the appropriate person listed in the preceding FOR FURTHER INFORMATION CONTACT section of this preamble.

B. Where can I get a copy of this document and other related information?

In addition to being available in the docket, an electronic copy of this proposal will also be available on the Internet through the Technology Transfer Network (TTN) Web site, a forum for information and technology exchange in various areas of air pollution control. Following signature by the EPA Administrator, the EPA will post a copy of this proposed action at: http://www.epa.gov/ttn/atw/petref.html. Following publication in the Federal Register, the EPA will post the Federal Register version and key technical documents at this same Web site.

II. Background Information

On December 1, 2015 (80 FR 75178), the EPA finalized amendments to the Petroleum Refinery NESHAP in 40 CFR part 63, subparts CC and UUU, referred to as Refinery MACT 1 and 2, respectively. The final amendments to Refinery MACT 1 and 2 include a number of provisions establishing emissions limitations during startup and shutdown for emissions sources at petroleum refineries, including specific provisions for maintenance vents, FCCU, and SRU, which are the focus of this proposed action.

The Refinery MACT 1 standards regulate emissions of hazardous air pollutants (HAP) from miscellaneous process vents. Prior to the December 2015 amendments, the definition of miscellaneous process vents excluded episodic or non-routine releases such as those associated with startup, shutdown, and maintenance. The December 2015 Refinery MACT 1 rule eliminates this exclusion from the definition of miscellaneous process vent and establishes standards for these “maintenance vents” in 40 CFR 63.643(c). Maintenance vents are only used as a result of startup, shutdown, maintenance or inspection of equipment when such equipment is emptied, depressurized, degassed, or placed into service. The rule specifies that refinery owners or operators may only release HAP from these maintenance vents in order to open process equipment provided that the equipment is drained and purged to a closed system until the hydrocarbon content is less than or equal to a lower explosive limit (LEL) of 10 percent prior to venting to the atmosphere. As a secondary limit, if the LEL cannot be measured due to design constraints of the equipment, the rule requires that the pressure in the equipment be reduced to 5 pounds (lbs) per square inch gauge or less prior to venting to the atmosphere. The rule also contains additional limits such as a low emission threshold (less than 72 lbs/day), and requirements for catalyst changeout activities where hydrotreater pyrophoric catalyst must be purged.

The Refinery MACT 2 standards regulate HAP emissions from the FCCU by specifying carbon monoxide (CO) limits as a surrogate for organic HAP and by specifying particulate matter (PM) limits (or nickel limits) as a surrogate for metal HAP. In the rule, compliance with the organic HAP emissions limit is demonstrated using a continuous CO monitor; compliance with the metal HAP emissions limit is demonstrated either using continuous opacity monitoring system (COMS) or continuous parameter monitoring system (CPMS). Owners or operators of FCCU are provided two options for demonstrating compliance with the PM limit during periods of startup, shutdown, or hot standby in 40 CFR 63.1564(a)(5): Meeting the emission limit that applies during times other than startup, shutdown, or hot standby, or meeting a minimum cyclone face velocity limit. Similarly, the rule provides two options for demonstrating compliance with the CO limit during periods of startup and shutdown in 40 CFR 63.1565(a)(5): Meeting the emission limit that applies during times other than startup, shutdown, or hot standby, or meeting an excess oxygen limit in the exhaust from the catalyst regenerator.

The Refinery MACT 2 standards also regulate HAP emissions from SRU vents by specifying sulfur dioxide (SO2), reduced sulfur compound, or total reduced sulfur limits as a surrogate for SRU HAP emissions. In the rule, compliance with the SRU HAP emissions limit is demonstrated using a continuous emission monitoring system (CEMS) or, when a thermal incinerator/oxidizer is used, compliance with the SRU HAP emissions limits is demonstrated using CPMS. The rule removes previous requirements to operate according to a site-specific startup, shutdown, and malfunction plan and instead finalizes standards that apply during all times, including additional standards that apply during startup and shutdown periods. Three compliance options were provided for SRU owners or operators to demonstrate compliance during periods of startup and shutdown in 40 CFR 63.1568(a)(4) including: Meeting the emission limit that applies during times other than startup or shutdown, sending purge gases to a flare that meets the operating requirements contained in 40 CFR 63.670, or sending purge gases to a thermal oxidizer or incinerator that meets specific temperature and excess oxygen requirements.

For owners or operators complying with any of the limits for startup, shutdown, or hot standby for FCCU and for startup or shutdown for SRU, the compliance date is the effective date of the rule (February 1, 2016, 60 days after the publication date of the rule). The compliance date for the maintenance vent provisions is also the effective date of the rule. In the next section of this preamble, we discuss some additional clarifications and technical corrections we are proposing to Table 11 of subpart CC to 40 CFR part 63, which is where the maintenance vent compliance times and other subpart CC compliance times are delineated.

The EPA has received new information that the compliance dates for standards for maintenance vents and startup, shutdown, or hot standby for FCCU and for startup or shutdown for SRU do not allow sufficient time to install additional control equipment, if needed, and to complete the management of change process, which includes addressing safety concerns associated with potential operational or procedural changes. The management of change process, which is discussed in further detail in the next section of this preamble, includes the following: Evaluating the change, forming an internal team to accomplish the change, engineering the change, which could include developing new set points, installing new controls or alarms, assessing risk of chemical accidents and catastrophic events, updating associated plans and procedures, providing training, performing pre-startup safety reviews, and implementing the change as required by other regulatory programs. In order to accommodate these steps, we are proposing to amend the compliance dates for these provisions to 18 months after the effective date of the standards (i.e., August 1, 2017). These proposed revisions are limited to periods of maintenance, startup, and shutdown which are expected to occur relatively infrequently as compared to normal operations.

III. What actions are we proposing?

A. Compliance Dates for Standards Applicable to Maintenance Vents, FCCU and SRU During Startup and Shutdown and During Hot Standby for FCCU

The EPA has received additional information (see Docket ID No. EPA-HQ-OAR-2010-0682) that indicates that the compliance dates for standards for maintenance vents and periods of startup, shutdown, and hot standby for FCCU and for startup or shutdown for SRU do not provide facilities sufficient time to go through their management of change process, which includes addressing safety concerns associated with potential operational or procedural changes and coordinating any changes with other applicable regulatory requirements. The process equipment associated with maintenance vents, FCCU, and SRU are subject to requirements under the Risk Management Program regulation in 40 CFR part 68 and the Occupational Safety and Health Administration (OSHA) Process Safety Management (PSM) standard in 29 CFR part 1910. Thus, any operational or procedural changes resulting from complying with the applicable standards must follow the management of change procedures in these respective regulatory programs.

The Risk Management Program and OSHA PSM regulations provide that owners or operators follow a management of change process, as codified in 40 CFR 68.75, 29 CFR 1910.119(l) and appendix C of 29 CFR 1910.119, to ensure that the following are considered prior to making a change:

• The technical basis for the proposed change;

• Impact of change on safety and health;

• Modifications to operating procedures;

• Necessary time period for the change; and

• Authorization requirements for the proposed change.

As part of the management of change process, the EPA expects that facilities will have to perform an upfront assessment to determine what changes are required to meet the new maintenance vent requirements and standards for FCCU and SRU. Based on our review of information brought forward by industry representatives, refinery owners or operators may have to adjust or install new instrumentation, including alarms, closed drain headers, equipment blowdown drums, and other new or revised processes and controls in order to comply with these new provisions. Facilities may also have to hire a vendor to assist with the project and complete the procurement process. Additionally, we anticipate that facilities will have to assess risk of chemical accidents and catastrophic events and review and revise standard operating procedures, as necessary.

Further, the management of change provisions also require that employees who are involved in operating a process and maintenance and contract employees whose job tasks are affected by the change must be trained prior to startup of the affected process.

Finally, facilities are required to conduct pre-startup safety reviews and obtain authorization for use to fully implement and startup the modified process and/or equipment.

Therefore, to account for the applicable requirements in the Risk Management Program regulation and OSHA PSM standard, the EPA is proposing to require owners and operators of sources that were constructed or reconstructed on or before June 30, 2014, to comply with the maintenance vent provisions and limits for startup, shutdown, or hot standby for FCCU and for startup or shutdown for SRU no later than 18 months after the effective date of the December 2015 rule. We believe that this additional time is both appropriate and sufficient to accomplish the necessary compliance-related tasks discussed above.

Although not common, the possibility exists that some facilities may have to install new controls or otherwise invest in capital projects in order to comply with these new regulatory provisions. As provided in the General Provisions to part 63, owners or operators of these facilities can request an additional 12 months to comply with the standards using the provisions in 40 CFR 63.6(i).

Owners and operators must comply with the general duty requirements in 40 CFR 63.642(n) for maintenance vents and 40 CFR 63.1570 for FCCU or SRU during periods of startup, shutdown and, for FCCU only, hot standby from the effective date of the December 2015 final rule until they comply with the new requirements on or before the applicable compliance dates. Records of compliance with the general duty requirements must be maintained as specified in 40 CFR 63.643(d), 63.642(n) and 63.1570(c).

B. Clarifications and Technical Corrections

We are proposing to make clarifying revisions to Table 11 in 40 CFR part 63, subpart CC. We received numerous questions regarding the compliance date for maintenance vents and some owners or operators are interpreting Table 11 to provide 3 years to comply with the maintenance vent provisions established in the rule as well as with other requirements that were not amended in the rule. This was not our intent, and we do not interpret Table 11 to allow 3 years to comply with the provisions in 40 CFR 63.643, or 3 years to comply with any of the requirements in subpart CC that were not amended in the December 2015 rule. However, in reviewing Table 11, we do understand the confusion, and we are proposing a revised version of Table 11 to more clearly delineate the compliance dates for the various provisions in subpart CC and to reflect the compliance date proposed for the maintenance vent provisions in the previous section of this preamble.

The EPA is also proposing to make several clarifications and technical corrections as described here and summarized in the table below. The first sentence in § 60.102a(f)(1)(i) is being changed to incorporate the pollutant of concern, SO2, directly into the regulatory text rather than inside a parenthesis within the sentence for clarity. A grammatical correction is being made to the closed blowdown system definition in § 63.641 by adding an “a” before the phrase, “. . . process vessel to a control device or back into the process.” The term “relief valve” and “valve” are being replaced with “pressure relief device” and “device” in the force majeure event definition in §§ 63.641 and 63.670(o)(1)(ii)(B), respectively. These changes are being made to improve consistency in the use of the term “pressure relief device” as it pertains to the work practice requirements in § 63.648(j) and associated provisions. The list of exceptions for equipment leak requirements in § 63.648(a) is being expanded to ensure the intent of the rulemaking is clear, that pressure relief devices subject to the requirements in either 40 CFR part 60, subpart VV or part 63, subpart H and the requirements in 40 CFR part 63, subpart CC are to comply with the requirements in § 63.648(j)(1) and (2), instead of the pressure relief device requirements in 40 CFR part 60, subpart VV and 40 CFR part 63, subpart H. The reporting and recordkeeping requirements related to fenceline monitoring contained in § 63.655(h)(8) are being edited to provide clarity that compliance reports are due 45 days after the end of each reporting period. The term “periodic” in the context of the report for fenceline monitoring has been removed to avoid confusion concerning the due dates of other periodic reports contained in 40 CFR part 63, subpart CC such as those specified in § 63.655(g). The siting requirements for passive monitors near known sources of volatile organic compounds (VOC) contained in § 63.658(c)(1) are being edited to clarify that a monitor should be placed on the shoreline adjacent to the dock for marine vessel loading operations. The phrase “that are located offshore” was removed because the intent is to require a monitor on the shoreline adjacent to the dock for marine vessel loading operations, and is not dependent on whether the location of the marine vessel loading operation is onshore or offshore.

The EPA is also proposing to add language to clarify the effective dates of two specific provisions in 40 CFR part 63, subpart UUU. First, we are proposing to revise the catalytic reforming unit (CRU) pressure limit exclusion provision in 40 CFR 63.1566(a)(4) to specify that refiners have 3 years to comply with the requirements to meet emission limitations in Tables 15 and 16 if they actively purge or depressurize at vessel pressures of 5 psig or less. Although both the proposal and the final preambles (at 79 FR 36950 and 80 FR 75185) indicated that we intended to provide a 3-year compliance period, language in § 63.1566(a)(4) did not specifically provide 3 years. This was an inadvertent omission and in this action we are proposing to add rule language to reflect our intent.

Similarly, we are proposing to revise the entry for item 1 in Table 2 of subpart UUU to clarify that refineries have 18 months to comply with the 20 percent opacity operating limit for units subject to Refinery NSPS subpart J or electing to comply with Refinery NSPS subpart J provisions for PM. Although both the proposal and the final preambles (at 79 FR 36950 and 80 FR 75185) indicated that we intended to provide an 18-month compliance period for new or revised operating limits for FCCU, the language in Table 2 of subpart UUU did not specifically provide this 18 month compliance period. Again, this was an inadvertent omission and in this action we are proposing to add rule language to reflect our intent.

Additionally, the reference to § 60.102a(b)(1) in § 63.1564(a)(1)(iv) is being removed as this provision should only reference Option 2 in Table 1 (Item 7 in Table 1 of part 63, subpart UUU), providing owners or operators with the option to comply with the Refinery MACT 2 p.m. option when they choose not to comply with one of the NSPS options. A typographical correction is being made to the reference to § 63.1566(a)(5)(iii) in 40 CFR part 63, subpart UUU, Table 3, Item 12 to correctly reference § 63.1564(a)(5)(ii). Finally, an editorial correction is being made to add the word “and” in place of a semicolon in 40 CFR part 63, subpart UUU, Table 5, Item 2.

Provision | Proposed revision
§ 60.102a(f)(1)(i) | Add the phrase “containing SO2” after “. . . the discharge of any gases . . .” in the first sentence of this paragraph. Remove “(SO2)” in the first sentence of this paragraph.
§ 63.641 Closed blowdown system definition | Add the word “a” before the phrase, “. . . process vessel to a control device or back into the process.”
§ 63.641 Force majeure event definition | Change “relief valve” to “pressure relief device.”
§ 63.648(a) | Edit the list of exceptions to include paragraphs (j)(1) and (2) of this section.
§ 63.655(h)(8) | Remove the word “periodic” and edit to require submittal within 45 days after the end of each reporting period.
§ 63.658(c)(1) | Delete the phrase “that are located offshore.”
§ 63.670(o)(1)(ii)(B) | Change the word “valve” to “device.”
§ 63.1564(a)(1)(iv) | Remove the reference to § 60.102a(b)(1).
§ 63.1566 (a)(4) | Revise the paragraph to allow 3 years to comply with Tables 15 and 16 for active depressuring and purging, when the reactor vent pressure is 5 psig or less.
40 CFR part 63, subpart UUU, Table 2, Item 1 | Add specific text to clarify that the 20 percent opacity operating limit becomes effective “On and after August 1, 2017. . . .”
40 CFR part 63, subpart UUU, Table 3, Item 12 | Correct the citation to § 63.1564(a)(5)(ii).
40 CFR part 63, subpart UUU, Table 5, Item 2 | Replace the second semicolon with the word “and.”

C. Impacts

We expect the additional compliance time will have an insignificant effect on emission reductions and costs, as many refiners already have measures in place due to state and other federal requirements to minimize emissions during these periods. Further, these periods are relatively infrequent (some only occur on a 5-year cycle) and are usually of short duration.

IV. Statutory and Executive Order Reviews

Additional information about these statutes and Executive Orders can be found at http://www2.epa.gov/laws-regulations//laws-and-executive-orders.

A. Executive Order 12866: Regulatory Planning and Review and Executive Order 13563: Improving Regulation and Regulatory Review

This action is not a significant regulatory action and was, therefore, not submitted to the Office of Management and Budget (OMB) for review.

B. Paperwork Reduction Act (PRA)

This action does not impose any new information collection burden under the PRA. OMB has previously approved the information collection activities contained in the existing regulations at 40 CFR part 63, subparts CC and UUU under the provisions of the Paperwork Reduction Act, 44 U.S.C. 3501 et seq. and has assigned OMB control numbers 2060-0340 and 2060-0554. The proposed amendments are revisions to compliance dates, clarifications and technical corrections that do not affect the estimated burden of the existing rule. Therefore, we have not revised the information collection request for the existing rule.

C. Regulatory Flexibility Act (RFA)

I certify that this action will not have a significant economic impact on a substantial number of small entities under the RFA. In making this determination, the impact of concern is any significant adverse economic impact on small entities. An agency may certify that a rule will not have a significant economic impact on a substantial number of small entities if the rule relieves regulatory burden, has no net burden, or otherwise has a positive economic effect on the small entities subject to the rule. The action consists of revisions to compliance dates, clarifications, and technical corrections which do not change the expected economic impact analysis performed for the existing rule. We have, therefore, concluded that this action will have no net regulatory burden for all directly regulated small entities.

D. Unfunded Mandates Reform Act (UMRA)

This action does not contain any unfunded mandate as described in UMRA, 2 U.S.C. 1531-1538, and does not significantly or uniquely affect small governments. The action imposes no enforceable duty on any state, local, or tribal governments or the private sector.

E. Executive Order 13132: Federalism

This action does not have federalism implications. It will not have substantial direct effects on the states, on the relationship between the national government and the states, or on the distribution of power and responsibilities among the various levels of government.

F. Executive Order 13175: Consultation and Coordination With Indian Tribal Governments

This action does not have tribal implications as specified in Executive Order 13175. It will not have substantial direct effect on tribal governments, on the relationship between the federal government and Indian tribes, or on the distribution of power and responsibilities between the federal government and Indian tribes, as specified in Executive Order 13175. Thus, Executive Order 13175 does not apply to this action.

G. Executive Order 13045: Protection of Children From Environmental Health Risks and Safety Risks

This action is not subject to Executive Order 13045 because it is not economically significant as defined in Executive Order 12866, and because the EPA does not believe the environmental health or safety risks addressed by this action present a disproportionate risk to children. The proposed amendments serve to revise compliance dates and make technical clarifications and corrections. We expect the additional compliance time will have an insignificant effect on emission reductions as many refiners already have measures in place due to state and other federal requirements to minimize emissions during these periods. Further, these periods are relatively infrequent and are usually of short duration. Therefore, the proposed amendments should not appreciably increase risk for any populations. Further, this action will allow more time for refiners to implement procedures to safely start up and shut down equipment which should minimize safety risks for all populations.

H. Executive Order 13211: Actions Concerning Regulations That Significantly Affect Energy Supply, Distribution, or Use

This action is not subject to Executive Order 13211 because it is not a significant regulatory action under Executive Order 12866.

I. National Technology Transfer and Advancement Act (NTTAA)

This rulemaking does not involve technical standards.

J. Executive Order 12898: Federal Actions To Address Environmental Justice in Minority Populations and Low-Income Populations

The EPA believes the human health or environmental risk addressed by this action will not have potential disproportionately high and adverse human health or environmental effects on minority, low-income, or indigenous populations. The proposed amendments serve to revise compliance dates and make technical clarifications and corrections. We expect the additional compliance time will have an insignificant effect on emission reductions as many refiners already have measures in place due to state and other federal requirements to minimize emissions during these periods. Further, these periods are relatively infrequent and are usually of short duration. Therefore, the proposed amendments should not appreciably increase risk for any populations. Further, this action will allow more time for refiners to implement procedures to safely start up and shut down equipment which should minimize safety risks for all populations.

List of Subjects

40 CFR Part 60

Environmental protection, Administrative practice and procedures, Air pollution control, Hazardous substances, Incorporation by reference, Intergovernmental relations, Reporting and recordkeeping requirements.

40 CFR Part 63

Environmental protection, Administrative practice and procedures, Air pollution control, Hazardous substances, Incorporation by reference, Intergovernmental relations, Reporting and recordkeeping requirements.

Dated: January 29, 2016.
Gina McCarthy,
Administrator.

For the reasons stated in the preamble, title 40, chapter I, of the Code of Federal Regulations is proposed to be amended as follows:

PART 60—STANDARDS OF PERFORMANCE FOR NEW STATIONARY SOURCES

1. The authority citation for part 60 continues to read as follows:

Authority: 42 U.S.C. 7401 et seq.

Subpart Ja—Standards of Performance for Petroleum Refineries for Which Construction, Reconstruction, or Modification Commenced After May 14, 2007

2. Section 60.102a is amended by revising the first sentence of paragraph (f)(1)(i) to read as follows:

§ 60.102a Emissions limitations.

* * * * *

(f) * * *

(1) * * *

(i) For a sulfur recovery plant with an oxidation control system or a reduction control system followed by incineration, the owner or operator shall not discharge or cause the discharge of any gases containing SO2 into the atmosphere in excess of the emission limit calculated using Equation 1 of this section. * * *

* * * * *

PART 63—NATIONAL EMISSION STANDARDS FOR HAZARDOUS AIR POLLUTANTS FOR SOURCE CATEGORIES

3. The authority citation for part 63 continues to read as follows:

Authority: 42 U.S.C. 7401 et seq.

Subpart CC—National Emission Standards for Hazardous Air Pollutants From Petroleum Refineries

4. Section 63.641 is amended by revising the definitions of “Closed blowdown system” and “Force majeure event” to read as follows:

§ 63.641 Definitions.

* * * * *

Closed blowdown system means a system used for depressuring process vessels that is not open to the atmosphere and is configured of piping, ductwork, connections, accumulators/knockout drums, and, if necessary, flow inducing devices that transport gas or vapor from a process vessel to a control device or back into the process.

* * * * *

Force majeure event means a release of HAP, either directly to the atmosphere from a pressure relief device or discharged via a flare, that is demonstrated to the satisfaction of the Administrator to result from an event beyond the refinery owner or operator's control, such as natural disasters; acts of war or terrorism; loss of a utility external to the refinery (e.g., external power curtailment), excluding power curtailment due to an interruptible service agreement; and fire or explosion originating at a near or adjoining facility outside of the refinery that impacts the refinery's ability to operate.

* * * * *

5. Section 63.643 is amended by revising paragraph (c) introductory text and adding paragraph (d) to read as follows:

§ 63.643 Miscellaneous process vent provisions.

* * * * *

(c) An owner or operator may designate a process vent as a maintenance vent if the vent is only used as a result of startup, shutdown, maintenance, or inspection of equipment where equipment is emptied, depressurized, degassed or placed into service. The owner or operator does not need to designate a maintenance vent as a Group 1 or Group 2 miscellaneous process vent. The owner of operator must comply with the applicable requirements in paragraphs (c)(1) through (3) of this section for each maintenance vent according to the compliance dates specified in table 11 of this subpart, unless an extension is requested in accordance with the provisions in § 63.6(i).

* * * * *

(d) After February 1, 2016 and prior to the date of compliance with the maintenance vent provisions in paragraph (c) of this section, the owner or operator must comply with the requirements in § 63.642(n) for each maintenance venting event and maintain records necessary to demonstrate compliance with the requirements in § 63.642(n) including, if appropriate, records of existing standard site procedures used to deinventory equipment for safety purposes.

6. Section 63.648 is amended by revising paragraph (a) introductory text as follows:

§ 63.648 Equipment leak standards.

(a) Each owner or operator of an existing source subject to the provisions of this subpart shall comply with the provisions of 40 CFR part 60, subpart VV, and paragraph (b) of this section except as provided in paragraphs (a)(1) and (2), (c) through (i), and (j)(1) and (2) of this section. Each owner or operator of a new source subject to the provisions of this subpart shall comply with subpart H of this part except as provided in paragraphs (c) through (i) and (j)(1) and (2) of this section.

* * * * *

7. Section 63.655 is amended by revising paragraph (h)(8) introductory text to read as follows:

§ 63.655 Reporting and recordkeeping requirements.

* * * * *

(h) * * *

(8) For fenceline monitoring systems subject to § 63.658, within 45 calendar days after the end of each reporting period, each owner or operator shall submit the following information to the EPA's Compliance and Emissions Data Reporting Interface (CEDRI). (CEDRI can be accessed through the EPA's Central Data Exchange (CDX) (https://cdx.epa.gov/). The owner or operator need not transmit these data prior to obtaining 12 months of data.

* * * * *

8. Section 63.658 is amended by revising paragraph (c)(1) to read as follows:

§ 63.658 Fenceline monitoring provisions.

* * * * *

(c) * * *

(1) As it pertains to this subpart, known sources of VOCs, as used in Section 8.2.1.3 in Method 325A of appendix A of this part for siting passive monitors, means a wastewater treatment unit, process unit, or any emission source requiring control according to the requirements of this subpart, including marine vessel loading operations. For marine vessel loading operations, one passive monitor should be sited on the shoreline adjacent to the dock.

* * * * *

9. Section 63.670 is amended by revising paragraph (o)(1)(ii)(B) to read as follows:

§ 63.670 Requirements for flare control devices.

* * * * *

(o) * * *

(1) * * *

(ii) * * *

(B) Implementation of prevention measures listed for pressure relief devices in § 63.648(j)(5) for each pressure relief device that can discharge to the flare.

* * * * *

10. The appendix to subpart CC is amended by revising table 11 to read as follows:

Appendix to Subpart CC of Part 63—Tables

* * * * *

Table 11—Compliance Dates and Requirements
If the construction/reconstruction date is . . . | Then the owner or operator must comply with . . . | And the owner or operator must achieve compliance . . . | Except as provided in . . .
(1) After June 30, 2014 | (i) Requirements for new sources in §§ 63.643(a) and (b); 63.644, 63.645, and 63.647; 63.648(a) through (i) and (j)(1) and (2); 63.649 through 63.651; and 63.654 through 63.656 | Upon initial startup | § 63.640(k), (l) and (m).
| (ii) Requirements for new sources in §§ 63.642(n), 63.643(c), 63.648(j)(3), (6) and (7); and 63.657 through 63.660 | Upon initial startup or February 1, 2016, whichever is later | § 63.640(k), (l) and (m).
(2) After September 4, 2007 but on or before June 30, 2014 | (i) Requirements for new sources in §§ 63.643(a) and (b); 63.644, 63.645, and 63.647; 63.648(a) through (i) and (j)(1) and (2); and 63.649 through 63.651, 63.655 and 63.656 | Upon initial startup | § 63.640(k), (l) and (m).
| (ii) Requirements for new sources in § 63.654 | Upon initial startup or October 28, 2009, whichever is later | § 63.640(k), (l) and (m).
| (iii) Requirements for new sources in either § 63.646 or § 63.660 | Upon initial startup, but you must transition to comply with only the requirements in § 63.660 on or before April 29, 2016 | §§ 63.640(k), (l) and (m) and 63.660(d).
| (iv) Requirements for existing sources in § 63.643(c) | On or before August 1, 2017 | §§ 63.640(k), (l) and (m) and 63.643(d).
| (v) Requirements for existing sources in § 63.658 | On or before January 30, 2018 | § 63.640(k), (l) and (m).
| (vi) Requirements for existing sources in § 63.648 (j)(3), (6) and (7) and § 63.657 | On or before January 30, 2019 | § 63.640(k), (l) and (m).
| (vii) Requirements in § 63.642(n) | Upon initial startup or February 1, 2016, whichever is later |
(3) After July 14, 1994 but on or before September 4, 2007 | (i) Requirements for new sources in §§ 63.643(a) and (b); 63.644, 63.645, and 63.647; 63.648(a) through (i) and (j)(1) and (2); and 63.649 through 63.651, 63.655 and 63.656 | Upon initial startup or August 18, 1995, whichever is later | § 63.640(k), (l) and (m).
| (ii) Requirements for existing sources in § 63.654 | On or before October 29, 2012 | § 63.640(k), (l) and (m).
| (iii) Requirements for new sources in either § 63.646 or § 63.660 | Upon initial startup, but you must transition to comply with only the requirements in § 63.660 on or before April 29, 2016 | §§ 63.640(k), (l) and (m) and 63.660(d).
| (iv) Requirements for existing sources in § 63.643(c) | On or before August 1, 2017 | §§ 63.640(k), (l) and (m) and 63.643(d).
| (v) Requirements for existing sources in § 63.658 | On or before January 30, 2018 | § 63.640(k), (l) and (m).
| (vi) Requirements for existing sources in §§ 63.648(j)(3), (6) and (7) and 63.657 | On or before January 30, 2019 | § 63.640(k), (l) and (m).
| (vii) Requirements in § 63.642(n) | Upon initial startup or February 1, 2016, whichever is later |
(4) On or before July 14, 1994 | (i) Requirements for existing sources in §§ 63.648(a) through (i) and (j)(1) and (2); and 63.649, 63.655 and 63.656 | (a) On or before August 18, 1998 | (1) § 63.640(k), (l) and (m). (2) § 63.6(c)(5) or unless an extension has been granted by the Administrator as provided in § 63.6(i).
| (ii) Either the requirements for existing sources in §§ 63.643(a) and (b); 63.644, 63.645, 63.647, 63.650 and 63.651; and item (4)(v) of this table OR The requirements in §§ 63.652 and 63.653 | (a) On or before August 18, 1998 | (1) § 63.640(k), (l) and (m). (2) § 63.6(c)(5) or unless an extension has been granted by the Administrator as provided in § 63.6(i).
| (iii) Requirements for existing sources in either § 63.646 or § 63.660 | On or before August 18, 1998, but you must transition to comply with only the requirements in § 63.660 on or before April 29, 2016 | §§ 63.640(k), (l) and (m) and 63.660(d).
| (iv) Requirements for existing sources in § 63.654 | On or before October 29, 2012 | § 63.640(k), (l) and (m).
| (v) Requirements for existing sources in § 63.643(c) | On or before August 1, 2017 | §§ 63.640(k), (l) and (m) and 63.643(d).
| (vi) Requirements for existing sources in § 63.658 | On or before January 30, 2018 | § 63.640(k), (l) and (m).
| (vii) Requirements for existing sources in §§ 63.648(j)(3), (6) and (7) and 63.657 | On or before January 30, 2019 | § 63.640(k), (l) and (m).
| (viii) Requirements in § 63.642(n) | Upon initial startup or February 1, 2016, whichever is later |

* * * * *

Subpart UUU—National Emission Standards for Hazardous Air Pollutants for Petroleum Refineries: Catalytic Cracking Units, Catalytic Reforming Units, and Sulfur Recovery Units

11. Section 63.1563 is amended by:

a. Revising paragraphs (a)(1) and (2) and (b);

b. Redesignating paragraphs (d) and (e) as paragraphs (e) and (f), respectively;

c. Adding paragraph (d); and

d. Revising newly redesignated paragraph (e) introductory text.

The revisions and additions to read as follows:

§ 63.1563 When do I have to comply with this subpart?

(a) * * *

(1) If you startup your affected source before April 11, 2002, then you must comply with the emission limitations and work practice standards for new and reconstructed sources in this subpart no later than April 11, 2002 except as provided in paragraph (d) of this section.

(2) If you startup your affected source after April 11, 2002, you must comply with the emission limitations and work practice standards for new and reconstructed sources in this subpart upon startup of your affected source except as provided in paragraph (d) of this section.

(b) If you have an existing affected source, you must comply with the emission limitations and work practice standards for existing affected sources in this subpart by no later than April 11, 2005 except as specified in paragraphs (c) and (d) of this section.

* * * * *

(d) You must comply with the applicable requirements in §§ 63.1564(a)(5), 63.1565(a)(5) and 63.1568(a)(4) as specified in paragraph (d)(1) or (2), as applicable.

(1) For sources which commenced construction or reconstruction before June 30, 2014, you must comply with the applicable requirements in §§ 63.1564(a)(5), 63.1565(a)(5) and 63.1568(a)(4) on or before August 1, 2017 unless an extension is requested and approved in accordance with the provisions in § 63.6(i). After February 1, 2016 and prior to the date of compliance with the provisions in §§ 63.1564(a)(5), 63.1565(a)(5) and 63.1568(a)(4), you must comply with the requirements in § 63.1570(c) and (d).

(2) For sources which commenced construction or reconstruction on or after June 30, 2014, you must comply with the applicable requirements in §§ 63.1564(a)(5), 63.1565(a)(5) and 63.1568(a)(4) on or before February 1, 2016 or upon startup, whichever is later.

(e) If you have an area source that increases its emissions or its potential to emit such that it becomes a major source of HAP, the requirements in paragraphs (e)(1) and (2) of this section apply.

* * * * *

12. Section 63.1564 is amended by revising paragraphs (a)(1)(iv), (a)(5) introductory text and (c)(5) introductory text to read as follows:

§ 63.1564 What are my requirements for metal HAP emissions from catalytic cracking units?

(a) * * *

(1) * * *

(iv) You can elect to comply with the PM per coke burn-off emission limit of this chapter (Option 2);

* * * * *

(5) On or before the date specified in § 63.1563(d), you must comply with one of the two options in paragraphs (a)(5)(i) and (ii) of this section during periods of startup, shutdown and hot standby:

* * * * *

(c) * * *

(5) If you elect to comply with the alternative limit in paragraph (a)(5)(ii) of this section during periods of startup, shutdown and hot standby, demonstrate continuous compliance on or before the date specified in § 63.1563(d) by:

* * * * *

13. Section 63.1565 is amended by revising paragraph (a)(5) introductory text to read as follows:

§ 63.1565 What are my requirements for organic HAP emissions from catalytic cracking units?

(a) * * *

(5) On or before the date specified in § 63.1563(d), you must comply with one of the two options in paragraphs (a)(5)(i) and (ii) of this section during periods of startup, shutdown and hot standby:

* * * * *

14. Section 63.1566 is amended by revising paragraph (a)(4) to read as follows:

§ 63.1566 What are my requirements for organic HAP emissions from catalytic reforming units?

(a) * * *

(4) The emission limitations in Tables 15 and 16 of this subpart do not apply to emissions from process vents during passive depressuring when the reactor vent pressure is 5 pounds per square inch gauge (psig) or less or during active depressuring or purging prior to January 30, 2019, when the reactor vent pressure is 5 psig or less. On and after January 30, 2019, the emission limitations in Tables 15 and 16 of this subpart do apply to emissions from process vents during active purging operations (when nitrogen or other purge gas is actively introduced to the reactor vessel) or active depressuring (using a vacuum pump, ejector system, or similar device) regardless of the reactor vent pressure.

* * * * *

15. Section 63.1568 is amended by revising paragraph (a)(4) introductory text to read as follows:

§ 63.1568 What are my requirements for organic HAP emissions from sulfur recovery units?

(a) * * *

(4) On or before the date specified in § 63.1563(d), you must comply with one of the three options in paragraphs (a)(4)(i) through (iii) of this section during periods of startup and shutdown.

* * * * *

16. Table 2 to subpart UUU of part 63 is amended by revising the entry for item 1 to read as follows:

* * * * *

Table 2 to Subpart UUU of Part 63—Operating Limits for Metal HAP Emissions From Catalytic Cracking Units
* * * * * * *
For each new or existing catalytic cracking unit . . . | For this type of continuous monitoring system . . . | For this type of control device . . . | You shall meet this operating limit . . .
1. Subject to the NSPS for PM in 40 CFR 60.102 and not elect § 60.100(e) | Continuous opacity monitoring system | Any | On and after August 1, 2017, maintain the 3-hour rolling average opacity of emissions from your catalyst regenerator vent no higher than 20 percent.
* * * * * * *

* * * * *

17. Table 3 to subpart UUU of part 63 is amended by revising the entry for item 12 to read as follows:

* * * * *

Table 3 to Subpart UUU of Part 63—Continuous Monitoring Systems for Metal HAP Emissions From Catalytic Cracking Units
* * * * * * *
For each new or existing catalytic cracking unit . . . | If you use this type of control device for your vent . . . | You shall install, operate, and maintain a . . .
* * * * * * *
12. Electing to comply with the operating limits in § 63.1564(a)(5)(ii) during periods of startup, shutdown, or hot standby | Any | Continuous parameter monitoring system to measure and record the gas flow rate exiting the catalyst regenerator.¹
¹ If applicable, you can use the alternative in § 63.1573(a)(1) instead of a continuous parameter monitoring system for gas flow rate.

* * * * *

18. Table 5 to subpart UUU of part 63 is amended by revising the entry for item 2 to read as follows:

* * * * *

Table 5 to Subpart UUU of Part 63—Initial Compliance With Metal HAP Emission Limits for Catalytic Cracking Units
* * * * * * *
For each new and existing catalytic cracking unit catalyst regenerator vent . . . | For the following emission limit . . . | You have demonstrated initial compliance if . . .
* * * * * * *
2. Subject to NSPS for PM in 40 CFR 60.102a(b)(1)(i); or in § 60.102 and electing § 60.100(e) and electing to meet the PM per coke burn-off limit | PM emissions must not exceed 1.0 g/kg (1.0 lb PM/1,000 lb) of coke burn-off | You have already conducted a performance test to demonstrate initial compliance with the NSPS and the measured PM emission rate is less than or equal to 1.0 g/kg (1.0 lb/1,000 lb) of coke burn-off in the catalyst regenerator. As part of the Notification of Compliance Status, you must certify that your vent meets the PM limit. You are not required to do another performance test to demonstrate initial compliance. As part of your Notification of Compliance Status, you certify that your BLD; CO2, O2, or CO monitor; or continuous opacity monitoring system meets the requirements in § 63.1572.
* * * * * * *

[FR Doc. 2016-02306 Filed 2-8-16; 8:45 am]

BILLING CODE 6560-50-P